DEPARTMENT OF TRANSPORTATION

Federal Motor Carrier Safety Administration

[Docket No. FMCSA-2017-0226]

Fixing America's Surface Transportation Act Correlation Study

AGENCY: Federal Motor Carrier Safety Administration (FMCSA), DOT.

ACTION: Notice; request for comments.

SUMMARY: On June 27, 2017, the National Academy of Sciences (NAS) published its report titled, “Improving Motor Carrier Safety Measurement.” This report was commissioned by FMCSA consistent with the requirements of Section 5221 of the Fixing America's Surface Transportation (FAST) Act. The FAST Act also requires that the Agency develop a corrective action plan to address any identified deficiencies and submit it to Congress and the U.S. Department of Transportation's (DOT) Office of Inspector General (OIG); this was completed on June 25, 2018. The purpose of this notice is to announce a public meeting to discuss NAS recommendations 2, 3 and 4 and to solicit input to be considered by the Agency.

DATES: The public meeting will take place on Wednesday, August 29, 2018, from 9:00 a.m. to 12:00 p.m., Eastern Time. A copy of the agenda for the meeting will be available in advance of the meeting at https://www.fmcsa.dot.gov/fastact/csa. If all interested participants have had an opportunity to comment, the meeting may conclude early.

Public Comments: Comments must be received by October 22, 2018.

ADDRESSES: The meeting will be held at the FMCSA National Training Center, 1310 N Courthouse Road, Suite 600, Arlington, VA 22201-2508. Those interested in attending this public meeting must register at: https://www.fmcsa.dot.gov/fastact/csa. Participants have the option of registering to attend in person, or via webinar.

FOR FURTHER INFORMATION CONTACT: For information about the public meeting or for information on facilities or services for individuals with disabilities or to request special assistance at the meeting, contact Ms. Barbara Baker, Compliance Division, at (202) 366-3397 or by email at Barbara.Baker@dot.gov, by August 27, 2018.

If you have questions regarding viewing or submitting material to the docket, contact Docket Services, telephone (202) 366-9826.

SUPPLEMENTARY INFORMATION:

Background

Section 5221 of the FAST Act, titled “Correlation Study,” required FMCSA to commission the National Research Council of the National Academies to conduct a study of FMCSA's Compliance, Safety, Accountability (CSA) program and Safety Measurement System (SMS). SMS is FMCSA's algorithm for identifying patterns of non-compliance and prioritizing motor carriers for interventions. FMCSA is prohibited from publishing SMS percentiles and alerts on the SMS website for motor carriers transporting property until the NAS Correlation Study is complete and all reporting and certification requirements under the FAST Act are satisfied.

On June 27, 2017, NAS published the report titled, “Improving Motor Carrier Safety Measurement.” The report is available at https://www.nap.edu/catalog/24818/improving-motor-carrier-safety-measurement. A copy of the report has been placed in the docket referenced at the beginning of this notice.

Pursuant to the FAST Act, FMCSA submitted the results of this study to both Congress and the DOT OIG on August 7, 2017. The FAST Act also requires FMCSA to submit an action plan to the Senate Committee on Commerce, Science, and Transportation; and the House of Representatives Transportation and Infrastructure Committee.

To solicit input during the development of the corrective action plan, FMCSA hosted a public meeting on September 8, 2017. Information from the public meeting was incorporated into the action plan. The corrective action plan was transmitted on June 25, 2018. The OIG is required to review the action plan and submit a report to Congress on the responsiveness of the FMCSA's plan to the NAS report's recommendations.

FMCSA's corrective action plan includes solicitation of input from the public for recommendations 2, 3 and 4. As a result, FMCSA is soliciting responses to the following questions at the public meeting and through the docket referenced above.

NAS Recommendation 2

FMCSA should continue to collaborate with States and other agencies to improve the quality of the Motor Carrier Management Information System (MCMIS) data in SMS. Two specific data elements require immediate attention: Carrier exposure and crash data. The current exposure data (e.g., Power Unit (PU) and Vehicle Miles Traveled (VMT) data) are missing with high frequency, and data that are collected are likely of unsatisfactory quality.

Questions

1. What should FMCSA do to improve the collection of PU, VMT, and driver count data? For example, should FMCSA use edit checks to verify the accuracy of the data?

2. VMT, PU, and number of inspections are the current measures of exposure used in SMS. Are there other ways FMCSA should consider measuring carrier exposure with data that is already available to FMCSA?

3. What are the current challenges that motor carriers face in reporting VMT data?

4. What information is available from the States to improve exposure data?

5. What additional data should FMCSA consider collecting from carriers? Why?

6. What external sources of exposure and crash data should FMCSA explore?

7. In addition to the data currently collected by FMCSA, what other exposure data would motor carriers be willing to share?

i. More frequent updates to mileage and PU data

ii. Number/type of trips

iii. Mileage breakdown by State

iv. Other options?

8. What incentives would encourage motor carriers to share additional information?

NAS Recommendation 3

FMCSA should investigate ways of collecting data that will likely benefit the recommended methodology for safety assessment. This includes data on carrier characteristics—such as information on driver turnover rate, type of cargo, method and level of compensation, and better information on exposure.

Questions

1. What additional data should FMCSA consider collecting to support the recommended methodology for safety assessment (i.e., IRT model)?

a. Would this data be useful for safety assessments?

b. What are the challenges to collecting or using the data recommended by NAS?

i. Driver turnover rate

ii. Type of cargo

iii. Method of compensation

iv. Level of compensation

v. Better information on exposure

2. What pay-related and/or driver-turnover-related data would carriers be willing to share?

NAS Recommendation 4

FMCSA should structure a user-friendly version of the MCMIS data file used as input to SMS without any personally identifiable information to facilitate its use by external parties, such as researchers, and carriers.

Questions

FMCSA is planning to develop a web page to make simplified MCMIS data snapshots available to researchers, motor carriers, safety consultants, and the public

1. What features should this web page include?

2. If the information collected in recommendation 3 above is used within the IRT model, should it be made available publicly to allow a full replication of the results?

3. What features should a user-friendly MCMIS data file include?

4. Would industry stakeholders find a user-friendly MCMIS data file useful? Why?

5. How often should this user-friendly MCMIS data file be updated (e.g., monthly, quarterly, annually etc.)?

Issued under the authority delegated in 49 CFR 1.87 on: August 13, 2018
Raymond P. Martinez,
Administrator.

[FR Doc. 2018-17987 Filed 8-20-18; 8:45 am]

BILLING CODE 4910-EX-P